DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)].

This program helps to ensure that requested data can be provided in the desired format, reporting burden (time and financial resources) is minimized, collection instruments are clearly understood, and the impact of collection requirements on respondents can be properly assessed. Currently, the Employment Standards Administration is soliciting comments concerning the proposed collection: Employment Information Forms (WH-3 and WH-3 Spanish). A copy of the proposed information collection request can be obtained by contacting the office listed below in the addresses section of this Notice.

DATES: Written comments must be submitted to the office listed in the addresses section below on or before February 5, 2007.

ADDRESSES: Ms. Hazel M. Bell, U.S. Department of Labor, 200 Constitution Ave., NW., Room S-3201, Washington, DC 20210, telephone (202) 693-0418, fax (202) 693-1451, E-mail bell.hazel@dol.gov. Please use only one method of transmission for comments (mail, fax, or E-mail).

SUPPLEMENTARY INFORMATION:

I. Background

Fair Labor Standards Act (FLSA) section 11(a), 29 U.S.C. 211(a), provides that the Secretary of Labor may investigate and gather data regarding the wages, hours, and other conditions and practices of employment in any industry subject to the FLSA, and may enter and inspect such places and such records (and make such transcriptions thereof), question such employees, and investigate such facts, conditions, practices, or matters deemed necessary or appropriate to determine whether any person has violated any provision of the FLSA. Other Federal laws the Wage and Hour Division (WHD) of the DOL administers provide similar authority. Form WH-3 is an optional form complainants (e.g. current and former employees, unions, and competitor employers) may use to provide information to the WHD about alleged violations of the labor standards provisions the WHD administers. Complainants themselves or WHD staff, using information provided by the complainants, complete the form. WHD staff use the completed forms to obtain information about employer compliance with the provisions of the various labor standards laws enforced by the agency and to determine if the WHD has jurisdiction to investigate the alleged violation(s). Form WH-3 is available in both English and Spanish. When the WHD schedules a complaint-based investigation, the agency makes the completed Form WH-3 part of the investigation case file. This information collection is currently approved for use through June 30, 2007.

II. Review Focus

The DOL is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The DOL seeks approval for the extension of this information collection in order to carry out its responsibility to meet the statutory requirements to investigate alleged violations of the various labor standards laws enforced by the WHD.

Type of Review: Extension.

Agency: Employment Standards Administration.

Title: Employment Information Form.

OMB Number: 1215-0001.

Agency Number: WH-3 and WH-3 Spanish.

Affected Public: Individuals or households.

Total Respondents: 35,000.

Total Responses: 35,000.

Time per Response: 20 minutes.

Frequency: On Occasion.

Estimated Total Burden Hours: 11,667.

Total Burden Cost (capital/startup): $0.

Total Burden Cost (operating/maintenance): $0.

Comments submitted in response to this notice will be summarized and/or included in the request for Office of Management and Budget approval of the information collection request; they will also become a matter of public record.

Dated: November 30, 2006.
Ruben Wiley,
Chief, Branch of Management Review and Internal Control, Division of Financial Management, Office of Management, Administration and Planning, Employment Standards Administration.

[FR Doc. E6-20589 Filed 12-5-06; 8:45 am]

BILLING CODE 4510-27-P